Title 3—

The President

Memorandum of October 31, 2008

Assignment of Functions Under Section 1265 of the National Defense Authorization Act for Fiscal Year 2008 (Public Law 110-181)

Memorandum for the Secretary of State

By virtue of the authority vested in me as President by the Constitution and the laws of the United States, including section 301 of title 3, United States Code, I hereby assign to you the reporting function conferred upon the President by section 1265 of the National Defense Authorization Act for Fiscal Year 2008 (Public Law 110-181).

You are authorized and directed to publish this memorandum in the Federal Register .

THE WHITE HOUSE,

Washington, October 31, 2008.

[FR Doc. E8-27501

Filed 11-17-08; 8:45 am]

Billing code 4710-10-P